INTERNATIONAL TRADE COMMISSION

[USITC SE-24-027]

Sunshine Act Meetings

Agency Holding the Meeting: United States International Trade Commission.

TIME AND DATE: June 28, 2024 at 11:00 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. Nos. 701-TA-727 and 731-TA-1695 (Preliminary) (Disposable Aluminum Containers, Pans, Trays, and Lids from China). The Commission currently is scheduled to complete and file its determinations on July 1, 2024; views of the Commission currently are scheduled to be completed and filed on July 9, 2024.

5. Outstanding action jackets: none.

CONTACT PERSON FOR MORE INFORMATION: Sharon Bellamy, Supervisory Hearings and Information Officer, 202-205-2000.

The Commission is holding the meeting under the Government in the Sunshine Act, 5 U.S.C. 552(b). In accordance with Commission policy, subject matter listed above, not disposed of at the scheduled meeting, may be carried over to the agenda of the following meeting. Earlier notification of this meeting was not possible.

By order of the Commission:
Issued: June 21, 2024.
Lisa Barton,
Secretary to the Commission.

[FR Doc. 2024-14059 Filed 6-21-24; 4:15 pm]

BILLING CODE 7020-02-P